ENVIRONMENTAL PROTECTION AGENCY

[FRL-9955-30-OEI]

Privacy Act of 1974; System of Records

AGENCY: Office of Environmental Information, Environmental Protection Agency (EPA).

ACTION: Notice of amended Privacy Act system of records final.

SUMMARY: The FOIA Request and Appeal File system of records is being amended to include all information and data elements that are being collected by the Environmental Protection Agency (EPA) and participating agencies as it relates to FOIA requests, appeals and responses. This information is being removed from the Federal Docket Management System (FDMS) system of records and being added to the FOIA Request and Appeal File (EPA-9) system of records. The FOIA Request and Appeal File system of records is also being amended to provide an additional routine use for the system. The additional routine use being added to this system of records, will allow the National Archives and Records Administration (NARA), Office of Government Information Services (OGIS), and the EPA to share information in the FOIA Request and Appeal File system in order to mediate and resolve disputes between requesters and administrative agencies without delay. OGIS will work directly with each agency using FOIAonline to access case level information that is not publically available in order to perform mediation services.

Records are stored in a secure, password protected electronic system that utilizes security hardware and software to include multiple firewalls, active intruder detection and role-based accessed controls. Additional safeguards vary by participating agencies. EPA also has records from the period prior to its use of the FOIAonline system which are stored in file folders in lockable file cabinets. The FOIA Request and Appeal File system is maintained under the authority of the Freedom of Information Act, 5 U.S.C. 552.

DATES: Persons wishing to comment on this system or records notice must do so by December 27, 2016.

ADDRESSES: Submit your comments, identified by Docket ID No. EPA-HQ-OEI-2015-0758, by one of the following methods:

www.regulations.gov: Follow the online instructions for submitting comments.

Email: oei.docket@epa.gov.

Fax: 202-566-1752.

Mail: OEI Docket, Environmental Protection Agency, Mailcode: 2822T, 1200 Pennsylvania Ave. NW., Washington, DC 20460.

Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2015-0758. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Larry Gottesman, FOIA, Library and Accessibility Division, Office of Environmental Information, Office, (202) 566-2162, U.S. EPA, Office of Environmental Information, MC 2282T, 1200 Pennsylvania Ave. NW., Washington, DC 20460.

SUPPLEMENTARY INFORMATION: The Freedom of Information Act (FOIA) Request and Appeal File (EPA-9) system contains a copy of each FOIA request and appeal received by the EPA and a copy of all correspondence related to the request, including name, affiliation address, telephone numbers, and other information about a requester. FOIAonline is managed and used by the EPA and other agencies to process, track and respond to FOIA requests and appeals. The FOIAonline system provides the EPA and partner agencies with a secure, password protected Web site to electronically receive, process, track and store requests from the public for federal records; post responsive records to a Web site; collect data for annual reporting requirements to the Department of Justice and manage internal FOIA administration activities. In addition, the FOIA system allows the public to submit and track FOIA requests and appeals; access requests and responsive records online and obtain the status of requests filed with the EPA and partner agencies. FOIAonline is a software application used by the EPA and other agencies. Social security numbers and other types of personally identifiable information may be provided in requests or in responsive documents. In some cases, agencies may require this information to fulfill a request. All participating agencies will ensure that sensitive PII is not made publicly available. The name of a FOIA requester may be publicly available and searchable by the public based on an agency's policies. With the exception of a requester's name, any other personally identifiable information provided by a requester during the process of completing the online request form or creating an online account (e.g., home addresses, email address and contact information) will not be posted to the Web site, nor will it be searchable by the public. Personally identifiable information determined to be publicly releasable and contained in documents released to the public under FOIA (e.g., the names and official contact information of government employees or the names of agency correspondents) will be publicly available and searchable by the public if posted by a participating agency. Individuals accessing the system are FOIA Officers, FOIA coordinators, subject matter experts and members of the public. Computer records are maintained in a secure, password protected computer system that operates in compliance with Federal Security Information Modernization Act (FISMA) moderate level requirements located at EPA's National Computer Center located at 109 T.W. Alexander Drive, Durham, NC 27709. All records are maintained in secure, access-controlled areas or buildings. The system is maintained in the EPA's Office of Environmental Information, Headquarter Program Offices, Regional Offices and the Office of General Counsel.

Dated: October 21, 2016.
Ann Dunkin,
Chief Information Officer.

EPA-9

SYSTEM NAME AND NUMBER:

Freedom of Information Act (FOIA) Request and Appeal File.

SYSTEM LOCATION:

EPA's National Computer Center located at 109 T.W. Alexander Drive, Durham, NC 27709.

AUTHORITY FOR MAINTENANCE OF THE SYSTEM:

Freedom of Information Act, 5 U.S.C. 552.

PURPOSE(S):

To provide the public a single location to submit and track FOIA requests and appeals filed with the EPA and participating agencies, to manage internal FOIA administration activities and to collect data for annual reporting requirements to the Department of Justice.

CATEGORIES OF INDIVIDUALS COVERED BY THE SYSTEM:

All persons requesting information or filing appeals under the Freedom of Information Act.

CATEGORIES OF RECORDS IN THE SYSTEM:

A copy of each Freedom of Information Act (FOIA) request received by the EPA and other participating agencies and a copy of all correspondence related to the request, including individuals' names, mailing addresses, email addresses, phone numbers, social security numbers, dates of birth, alias(es) used by the requester, alien numbers assigned to travelers crossing national borders, requesters' parents' names, user names and passwords for registered users, FOIA tracking numbers, dates requests are submitted and received, related appeals and agency responses. Records also include communications with requesters, internal FOIA administrative documents (e.g., billing invoices) and responsive records.

ROUTINE USES OF RECORDS MAINTAINED IN THE SYSTEM, INCLUDING CATEGORIES OF USERS AND PURPOSES OF SUCH USES:

General routine uses A, E, F, G, H, K, and L apply to this system. Records may also be disclosed to:

1. Another federal agency (a) with an interest in the record in connection with a referral of a Freedom of Information Act (FOIA) request to that agency for its views or decision on disclosure, or (b) in order to obtain advice and recommendations concerning matters on which the agency has specialized experience or particular competence that may be useful to an agency in making required determinations under the FOIA.

2. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

POLICIES AND PRACTICES FOR STORAGE OF RECORDS:

Records are stored in file folders in lockable file cabinets. Records are also stored in a secure, password protected electronic system that utilizes security hardware and software to include multiple firewalls, active intruder detection and role-based accessed controls. Additional safeguards vary by participating agencies.

POLICIES AND PRACTICES FOR RETRIEVABILITY OF RECORDS:

Requests are retrieved from the system by numerous data elements and key word searches, including name, agency, dates, subject, FOIA tracking number and other information retrievable with full-text searching capability.

POLICIES AND PRACTICES FOR RETENTION AND DISPOSAL OF RECORDS:

Each federal agency handles its records in accordance with its records schedule as approved by NARA. FOIA records are covered under NARA General Record Schedule 14—Information Services Records unless a participating agency's records are managed under other record schedules approved by NARA.

PHYSICAL, PROCEDURAL, AND ADMINISTRATIVE SAFEGUARDS:

Computer records are maintained in a secure, password protected computer system. Paper records are maintained in lockable file cabinets. All records are maintained in secure, access-controlled areas or buildings.

SYSTEM MANAGER(S):

Tim Crawford, crawford.tim@epa.gov, U.S. EPA, Office of Environmental Information, MC 2822T, 1200 Pennsylvania Ave. NW., Washington, DC 20460.

RECORD ACCESS PROCEDURES:

Individuals seeking access to their own personal information in this system of records is required to provide adequate identification (e.g., driver's license, military identification card, employee badge or identification card). Additional identity verification procedures may be required as warranted. Requests must meet the requirements of EPA regulations at 40 CFR part 16.

CONTESTING RECORD PROCEDURES:

Requests for correction or amendment must identify the record to be changed and the corrective action sought. Requests must be submitted to the agency contact indicated on the initial document for which the related contested record was submitted.

NOTIFICATION PROCEDURE:

Any individual who wants to know whether this system of records contains a record about him or her, should make a written request to the EPA Privacy Officer, MC 2822T, 1200 Pennsylvania Avenue NW., Washington, DC 20460.

EXEMPTIONS PROMULGATED FOR THE SYSTEM:

None.

[FR Doc. 2016-27669 Filed 11-16-16; 8:45 am]

BILLING CODE 6560-50-P